Title 3—

The President

Memorandum of June 3, 2004

Secret Service Protection for Distinguished Foreign Visitors to the 2004 Group of Eight (“G8”) Summit

Memorandum for the Secretary of Homeland Security

By the authority vested in me as President by the Constitution and the laws of the United States, including section 301 of title 3, United States Code, I hereby delegate to you the functions and authority of the President contained in section 3056 of title 18, United States Code, with respect to protecting distinguished foreign visitors to the 2004 Group of Eight (“G8”) Summit.

You are further authorized and directed to make necessary arrangements to fund this activity from the proper appropriation and to publish this memorandum in the Federal Register.

B

THE WHITE HOUSE,

Washington, June 3, 2004.

[FR Doc. 04-13106

Filed 6-7-04; 9:45 am]

Billing code 4410-10-M